NUCLEAR REGULATORY COMMISSION

[Docket No. 40-9027]

Notice of Availability of Final Environmental Assessment and Finding of No Significant Impact for Cabot Corporation Proposed Decommissioning Plan for Site in Reading, PA

AGENCY: Nuclear Regulatory Commission.

ACTION: Notice of availability and finding of no significant impact.

SUMMARY: Notice is hereby given that the U.S. Nuclear Regulatory Commission (NRC) is issuing a final Environmental Assessment (EA) for Cabot Corporation (Cabot or the licensee) Decommissioning Plan (DP), dated August 21, 2006, which requested authorization to commence decommissioning activities to achieve unrestricted release of a site in Reading, Pennsylvania. The final EA makes a finding of no significant impact (FONSI) for the proposed action, and is being issued as part of the NRC's decision-making process on whether to issue an amendment to license SMC-1562, pursuant to Title 10 of the U.S. Code of Federal Regulations Part 40, “Domestic Licensing of Source Material Licenses.” The proposed DP specifies installation of a riprap erosion barrier on the site slope. The site is owned by the City of Reading and is located in a large redevelopment area. Tentative City plans are for industrial activities in a new structure to be built on top of the slope, adjacent to the Cabot site. The site itself will not be developed.

FOR FURTHER INFORMATION CONTACT: Theodore Smith, Project Manager, Reactor Decommissioning Branch, Division of Waste Management and Environmental Protection, Mail Stop T8-F5, U.S. Nuclear Regulatory Commission, Washington, DC 20555-0001. Telephone: (301) 415-6721; e-mail: tbs1@nrc.gov.

SUPPLEMENTARY INFORMATION:

I. Introduction

Cabot Corporation (Cabot) holds U.S. Nuclear Regulatory Commission (NRC) Source Materials License SMC-1562, allowing the storage of radioactive materials at Cabot's Reading, Pennsylvania, site. Former ore processing in the 1960s at the facility generated waste slag contaminated with uranium and thorium. A smaller amount of debris from facility decontamination was added to the site in the late 1970s. In the 1980s, Cabot began onsite decommissioning activities at the main processing building at its Reading site, and began preparing for decommissioning activities at Reading site slag pile by conducting site characterization, determining slag leach rate constants, taking surface gamma measurements, and performing radiological analysis of surface and subsurface samples. Contaminated areas of the main building area were remediated in a series of cleanup actions in the early 1990s. Cabot originally submitted the decommissioning plan (DP) in 1998 and has revised it several times to address various NRC concerns. On August 21, 2006, Cabot submitted Revision 4 of its proposed DP which proposes installation of a riprap erosion barrier at the site. The NRC has prepared an environmental assessment (EA) in support of this action in accordance with the requirements of 10 CFR part 51. Based on the EA, the NRC has concluded that a Finding of No Significant Impact is appropriate. If approved, the license amendment incorporating the DP would be issued following publication of this Notice.

II. EA Summary

The Proposed Action

Cabot requested approval of its DP, which would allow it to conduct decommissioning activities at the site. If approved and properly implemented, the DP would eventually lead to the termination of its NRC source materials license. In its DP, Cabot proposed to place a riprap erosion cover on the slag pile's slope and provided analysis to demonstrate that the site will be acceptable for license termination under unrestricted release.

Need for the Proposed Action

The purpose of this action is to decommission an NRC-licensed site, allowing for its unrestricted use and termination of the source material license. This action is required by 10 CFR 40.42, “Expiration and Termination of Licenses and Decommissioning of Sites and Separate Buildings or Outdoor Areas.”

Environmental Impacts of the Proposed Action

The NRC staff concluded that the proposed decommissioning activities will not result in a significant impact to the environment. No significant impacts to the site ecology are anticipated because of the proposed action. The proposed action will not adversely affect Federal or State-listed threatened or endangered species, or regional historic and cultural resources. The proposed action can be viewed as a continuation of impacts and can be evaluated based on the previous impacts from past operations. In making this determination, the staff considered impacts to such areas as public and occupational health, transportation, socioeconomics, ecology, water quality, and the effects of natural phenomena. Further details regarding the staff's environmental evaluation of the proposed action are set forth in the EA (ML072390296)

Agencies and Persons Consulted

The staff completed consultations with the U.S. Fish and Wildlife Service (FWS) for consideration under Section 7 of the Endangered Species Act and with the Pennsylvania State Historic Preservation Office (SHPO) for consideration under Section 106 of the National Historic Preservation Act. In addition the staff provided the draft EA to the Pennsylvania Department of Environmental Protection (PADEP) officials for comment. An addendum to the final EA sets forth the PADEP comments and the NRC's responses, and provides a history of operations at the site.

III. Finding of No Significant Impact

The final EA supports the proposed action to issue a license amendment approving Cabot's DP for the Reading site. On the basis of this EA, NRC has concluded that there are no significant environmental impacts from the proposed action, and that preparation of an Environmental Impact Statement is not warranted. Accordingly, it has been determined that a Finding of No Significant Impact is appropriate.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Documents | ADAMS Accession Nos.
Licensee Decommissioning Plan | ML062360159, ML062360164, ML062640081, ML062210261.
PADEP consultation | ML070880408, ML072390482.
SHPO consultation | ML070430115, ML071240260, ML071450487, ML072220371.
FWS consultation | ML06026123 , ML060730519.
Environmental Assessment | ML072390323, ML072390296.

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O1-F21, One White Flint North, 11555 Rockville Pike, Rockville, MD 20852. The PDR reproduction contractor will copy documents for a fee.

Dated at Rockville, Maryland, this 12th day of October 2007.
For the Nuclear Regulatory Commission.
Andrew Persinko,
Branch Chief, Reactor Decommissioning Branch, Division of Waste Management and Environmental Protection, Office of Federal and State Materials and Environmental Management Programs.

[FR Doc. E7-20746 Filed 10-19-07; 8:45 am]

BILLING CODE 7590-01-P